UNITED STATES SENTENCING COMMISSION

Request for Applications; Tribal Issues Advisory Group

AGENCY: United States Sentencing Commission.

ACTION: Notice.

SUMMARY: The Commission has decided to establish a Tribal Issues Advisory Group as a standing advisory group pursuant to 28 U.S.C. 995 and Rule 5.4 of the Commission's Rules of Practice and Procedure. Having adopted a formal charter for the Tribal Issues Advisory Group, the Commission is constituting the initial membership of the advisory group under that charter. Under the charter, the advisory group will consist of no more than 9 members. Of those 9 members, not more than 1 shall be a Federal judge; 2 shall be from the Executive Branch (one from the United States Department of Justice and one from the United States Department of the Interior); 1 shall be from a federal public defender organization or community defender organization; 1 shall be a tribal court judge; and not more than 4 shall be at-large members. To be eligible to serve as a member, an individual must have expertise, knowledge, and/or experience in the issues considered by the Tribal Issues Advisory Group. The Commission hereby invites any individual who is eligible to be appointed to the Federal judge membership, the tribal court judge membership, or the at-large membership of the Tribal Issues Advisory Group to apply. Application materials should be received by the Commission not later than October 24, 2016. An applicant for membership in the Tribal Issues Advisory Group should apply by sending a letter of interest and resume to the Commission as indicated in the ADDRESSES section below.

DATES: Application materials for the Federal judge, tribal court judge, and at-large memberships of the Tribal Issues Advisory Group should be received not later than October 24, 2016.

ADDRESSES: An applicant for the memberships of the Tribal Issues Advisory Group covered by this notice should apply by sending a letter of interest and resume to the Commission by electronic mail or regular mail. The email address is pubaffairs@ussc.gov. The regular mail address is United States Sentencing Commission, One Columbus Circle NE., Suite 2-500, South Lobby, Washington, DC 20002-8002, Attention: Public Affairs.

FOR FURTHER INFORMATION CONTACT: Christine Leonard, Director, Office of Legislative and Public Affairs, (202) 502-4500, pubaffairs@ussc.gov. More information about the Tribal Issues Advisory Group (including the advisory group charter) is available on the Commission's Web site at http://www.ussc.gov/about/who-we-are/advisory-groups.

SUPPLEMENTARY INFORMATION: The United States Sentencing Commission is an independent agency in the judicial branch of the United States Government. The Commission promulgates sentencing guidelines and policy statements for federal sentencing courts pursuant to 28 U.S.C. 994(a). The Commission also periodically reviews and revises previously promulgated guidelines pursuant to 28 U.S.C. 994(o) and submits guideline amendments to the Congress not later than the first day of May each year pursuant to 28 U.S.C. 994(p). Under 28 U.S.C. 995 and Rule 5.4 of the Commission's Rules of Practice and Procedure, the Commission may create standing or ad hoc advisory groups to facilitate formal and informal input to the Commission. Upon creating an advisory group, the Commission may prescribe the policies regarding the purpose, membership, and operation of the group as the Commission deems necessary or appropriate.

The Commission recently adopted a formal charter for the Tribal Issues Advisory Group. Under the charter, the purpose of the advisory group is:

(1) To assist the Commission in carrying out its statutory responsibilities under 28 U.S.C. 994(o);

(2) to provide to the Commission its views on federal sentencing issues relating to American Indian and Alaska Native defendants and victims, and to offenses committed in Indian country;

(3) to engage in meaningful consultation and outreach with tribes, tribal governments, and tribal organizations regarding federal sentencing issues that have tribal implications;

(4) to disseminate information regarding federal sentencing issues to tribes, tribal governments, and tribal organizations; and

(5) to perform any other related functions as the Commission requests.

The Tribal Issues Advisory Group shall consist of no more than 9 members. Of those 9 members, not more than 1 shall be a Federal judge; 2 shall be from the Executive Branch (one from the United States Department of Justice and one from the United States Department of the Interior); 1 shall be from a federal public defender organization or community defender organization; 1 shall be a tribal court judge; and not more than 4 shall be at-large members. All members are appointed by the Commission and shall have expertise, knowledge, and/or experience in the issues considered by the Tribal Issues Advisory Group. The Commission intends that the at-large membership shall include individuals with membership in or experience with tribes, tribal governments, and tribal organizations, appointed in a manner that ensures representation among tribal communities diverse in size, geographic location, and other unique characteristics.

All members of the Tribal Issues Advisory Group shall serve not more than two consecutive three-year terms. However, the terms of the initial membership shall be staggered so that 3 members serve a term of three years, 3 members serve a term of two years, and 3 members serve a term of one year.

The Commission invites any individual who is eligible to be appointed to the Federal judge membership, the tribal court judge membership, or the at-large membership of the Tribal Issues Advisory Group to apply by sending a letter of interest and a resume to the Commission as indicated in the ADDRESSES section above.

Authority: 28 U.S.C. 994(a), (o), (p), § 995; USSC Rules of Practice and Procedure 5.2, 5.4.

Patti B. Saris,
Chair.

[FR Doc. 2016-20247 Filed 8-23-16; 8:45 am]

BILLING CODE 2210-40-P